DEPARTMENT OF STATE

22 CFR Part 51

RIN 1400-ZA07

[Public Notice: 4862]

Passport Procedures—Amendment to Passport Regulations; Correction

AGENCY: State Department.

ACTION: Interim rule; correction.

SUMMARY: The Department of State published a document in the Federal Register of October 13, 2004, concerning request for comments on the requirement that a statement of consent submitted in support of a minor's application be notarized. The document contained incorrect dates.

FOR FURTHER INFORMATION CONTACT: Gregory K.O. Davis, Office of Directives Management, Bureau of Administration, Department of State 202-312-9607; Fax 202-312-9603.

Correction

In the Federal Register of October 13, 2004, in FR Doc. 04-22937, on page 60811, in the third column, correct the DATES caption to read:

DATES: The effective date is November 1, 2004. The Department will accept comments from the public up to November 13, 2004.

Dated: October 14, 2004.
Gregory K.O. Davis,
Regulatory Coordinator, Department of State.

[FR Doc. 04-23469 Filed 10-19-04; 8:45 am]

BILLING CODE 4710-24-P